DEPARTMENT OF THE INTERIOR

Bureau of Indian Affairs

[189A2100DD/AAKC001030/A0A501010.999900253G]

Indian Gaming; Approval of Tribal-State Class III Gaming Compact Amendments in the State of Oklahoma

AGENCY: Bureau of Indian Affairs, Interior.

ACTION: Correction; notice.

SUMMARY: The Bureau of Indian Affairs (BIA) published a notice in the Federal Register of August 17, 2018, containing a list of approved Tribal-State Class III gaming compacts (83 FR 41101) that inadvertently omitted one Tribe from the second list.

DATES: The compact amendments took effect on August 17, 2018.

FOR FURTHER INFORMATION CONTACT: Ms. Paula L. Hart, Director, Office of Indian Gaming, Office of the Deputy Assistant Secretary—Policy and Economic Development, Washington, DC 20240, (202) 219-4066.

SUPPLEMENTARY INFORMATION:

Correction

In the Federal Register of August 17, 2018, in 83 FR 41101, on page 41101, in the third column, correct the Summary caption to read:

The State of Oklahoma entered into compact amendments with the Absentee Shawnee Tribe, Cherokee Nation, Chickasaw Nation, Citizen Potawatomi Nation, Eastern Shawnee Tribe of Oklahoma, Iowa Tribe of Oklahoma, Kaw Nation, Muscogee (Creek) Nation, Seneca-Cayuga Nation, Wichita and Affiliated Tribes, and Wyandotte Nation of Oklahoma governing certain forms of class III gaming; this notice announces the approval of the State of Oklahoma Gaming Compact Non-House-Banked Table Games Supplement between the State of Oklahoma and the Absentee Shawnee Tribe, Cherokee Nation, Chickasaw Nation, Citizen Potawatomi Nation, Eastern Shawnee Tribe of Oklahoma, Iowa Tribe of Oklahoma, Kaw Nation, Muscogee (Creek) Nation, Seneca-Cayuga Nation, Wichita and Affiliated Tribes, and Wyandotte Nation.

Dated: August, 24, 2018.
Tara Sweeney,
Assistant Secretary—Indian Affairs.

[FR Doc. 2018-19732 Filed 9-10-18; 8:45 am]

BILLING CODE 4337-15-P